DEPARTMENT OF ENERGY

Federal Energy Regulatory Commission

Combined Notice of Filings #1

October 26, 2010.

Take notice that the Commission received the following electric corporate filings:

Docket Numbers: EC11-12-000.

Applicants: Agri Beef Co., E. Robert Mooney, Mendata LP, Brookfield Power US Holding America Co.

Description: Application of Brookfield Power US Holding America Co., et al.

Filed Date: 10/22/2010.

Accession Number: 20101022-5181.

Comment Date: 5 p.m. Eastern Time on Friday, November 12, 2010.

Docket Numbers: EC11-13-000.

Applicants: Cadillac Renewable Energy LLC.

Description: Application for Authorization for Disposition of Jurisdictional Facilities and Request for Expedited Action of Cadillac Renewable Energy LLC.

Filed Date: 10/25/2010.

Accession Number: 20101025-5305.

Comment Date: 5 p.m. Eastern Time on Monday, November 15, 2010.

Take notice that the Commission received the following electric rate filings:

Docket Numbers: ER05-1232-027; ER07-1113-014; ER09-335-009.

Applicants: J.P. Morgan Ventures Energy Corporation, BE CA LLC

Description: The MBR Companies submit Supplement to Updated Market Power Analysis and Order No. 697.

Filed Date: 10/22/2010.

Accession Number: 20101022-5164.

Comment Date: 5 p.m. Eastern Time on Friday, November 12, 2010.

Docket Numbers: ER07-1356-017; ER07-1112-015; ER07-1113-016; ER07-1116-014; ER07-1117-017; ER07-1118-016; ER07-1358-019; ER00-2885-033; ER01-2765-032; ER09-609-008; ER09-1141-012; ER05-1232-031; ER02-2102-032; ER03-1283-025.

Applicants: J.P. Morgan Ventures Energy Corporation, BE Allegheny LLC, BE CA LLC, BE Ironwood LLC, BE KJ LLC, BE Rayle LLC, BE Alabama LLC, BE Louisiana LLC, Cedar Brakes I, L.L.C., Utility Contract Funding, L.L.C., Central Power & Lime LLC, Cedar Brakes II, L.L.C., J.P. Morgan. Commodities Canada Corporation, Vineland Energy LLC

Description: JPMorgan Sellers submit Notice of Non-Material Change in Status.

Filed Date: 10/25/2010.

Accession Number: 20101025-5141.

Comment Date: 5 p.m. Eastern Time on Monday, November 15, 2010.

Docket Numbers: ER09-1481-003.

Applicants: Meadow Lake Wind Farm II LLC.

Description: Meadow Lake Wind Farm II LLC, Notice of Non-Material Change in Status.

Filed Date: 10/25/2010.

Accession Number: 20101025-5160.

Comment Date: 5 p.m. Eastern Time on Monday, November 15, 2010.

Docket Numbers: ER10-2220-002.

Applicants: New York Independent System Operator, Inc.

Description: New York Independent System Operator, Inc. submits tariff filing per 35: Filing in Compliance with 10/12/10 Order on Proposed Mitigation Measures to be effective 12/27/2010.

Filed Date: 10/26/2010.

Accession Number: 20101026-5119.

Comment Date: 5 p.m. Eastern Time on Tuesday, November 16, 2010.

Docket Numbers: ER10-3266-001.

Applicants: SU FERC, L.L.C.

Description: SU FERC, L.L.C. submits tariff filing per 35: Baseline Compliance to be effective 9/30/2010.

Filed Date: 10/25/2010.

Accession Number: 20101025-5274.

Comment Date: 5 p.m. Eastern Time on Monday, November 15, 2010.

Docket Numbers: ER11-22-001.

Applicants: Midwest Independent Transmission System Operator, Inc.

Description: Midwest Independent Transmission System Operator, Inc. submits an unexecuted Generator Interconnection Agreement with Michigan Electric Transmission Company, LLC, to be effective 10/5/2010.

Filed Date: 10/25/2010.

Accession Number: 20101025-5153.

Comment Date: 5 p.m. Eastern Time on Monday, November 15, 2010.

Docket Numbers: ER10-1894-003.

Applicants: Wisconsin Public Service Corporation.

Description: Wisconsin Public Service Corporation submits tariff filing per 35: Compliance Filing to Correct Attachments to be effective 7/23/2010.

Filed Date: 10/22/2010.

Accession Number: 20101022-5149.

Comment Date: 5 p.m. Eastern Time on Friday, November 12, 2010.

Docket Numbers: ER11-1825-001.

Applicants: Cleco Evangeline LLC.

Description: Cleco Evangeline LLC submits tariff filing per 35: Evangeline MBR revised to be effective 10/1/2010.

Filed Date: 10/01/2010.

Accession Number: 20101001-5086.

Comment Date: 5 p.m. Eastern Time on Friday, November 05, 2010.

Docket Numbers: ER11-1826-001.

Applicants: Acadia Power Partners, L.L.C.

Description: Acadia Power Partners, L.L.C. submits tariff filing per 35: Acadia MBR Revised to be effective 10/1/2010.

Filed Date: 10/01/2010.

Accession Number: 20101001-5088.

Comment Date: 5 p.m. Eastern Time on Friday, November 05, 2010.

Docket Numbers: ER11-1827-001.

Applicants: Cleco Power LLC.

Description: Cleco Power LLC submits tariff filing per 35: Cleco Power MBR revised to be effective 10/1/2010.

Filed Date: 10/01/2010.

Accession Number: 20101001-5083.

Comment Date: 5 p.m. Eastern Time on Friday, November 05, 2010.

Docket Numbers: ER11-1874-000.

Applicants: Public Service Company of New Mexico.

Description: Public Service Company of New Mexico submits tariff filing per 35: PNM Section 23 OATT Compliance Filing to be effective 10/1/2010.

Filed Date: 10/22/2010.

Accession Number: 20101022-5142.

Comment Date: 5 p.m. Eastern Time on Friday, November 12, 2010.

Docket Numbers: ER11-1875-000.

Applicants: California Independent System Operator Corporation.

Description: California Independent System Operator Corporation submits tariff filing per 35: 2010-10-22 CAISO's Non Generator Resource Compliance Filing to be effective 9/10/2010.

Filed Date: 10/22/2010.

Accession Number: 20101022-5143.

Comment Date: 5 p.m. Eastern Time on Friday, November 12, 2010.

Docket Numbers: ER11-1876-000.

Applicants: Pacific Gas and Electric Company.

Description: Pacific Gas and Electric Company submits tariff filing per 35.13(a)(2)(iii): PG&E WD Tariff Service Agreement No. 57, Energy 2001 to be effective 12/21/2010.

Filed Date: 10/22/2010.

Accession Number: 20101022-5147.

Comment Date: 5 p.m. Eastern Time on Friday, November 12, 2010.

Docket Numbers: ER11-1877-000.

Applicants: Alabama Power Company.

Description: Alabama Power Company submits tariff filing per 35: APCo MUN 1—REA 1 Initial Tariff Filing to be effective 10/22/2010.

Filed Date: 10/22/2010.

Accession Number: 20101022-5148.

Comment Date: 5 p.m. Eastern Time on Friday, November 12, 2010.

Docket Numbers: ER11-1878-000.

Applicants: Westar Energy, Inc.

Description: Westar Energy, Inc. submits an Interconnection & Interchange Agreement with Nebraska Public Power District to be effective 9/1/2010.

Filed Date: 10/25/2010.

Accession Number: 20101025-5001.

Comment Date: 5 p.m. Eastern Time on Monday, November 15, 2010.

Docket Numbers: ER11-1879-000.

Applicants: PJM Interconnection, L.L.C.

Description: PJM Interconnection, L.L.C. submits tariff filing per 35.13(a)(2)(iii): Wholesale Distribution Service Agreement No. 2658—Virginia Electric and Power to be effective 9/23/2010.

Filed Date: 10/25/2010.

Accession Number: 20101025-5056.

Comment Date: 5 p.m. Eastern Time on Monday, November 15, 2010.

Docket Numbers: ER11-1880-000.

Applicants: PJM Interconnection, L.L.C.

Description: PJM Interconnection, L.L.C. submits tariff filing per 35.13(a)(2)(iii): Sub First Rev ISA No. 1767, Queue P-06—Calpine NJ Gen and ACEC to be effective 9/17/2010.

Filed Date: 10/25/2010.

Accession Number: 20101025-5060.

Comment Date: 5 p.m. Eastern Time on Monday, November 15, 2010.

Docket Numbers: ER11-1881-000.

Applicants: Burley Butte Wind Park, LLC.

Description: Burley Butte Wind Park, LLC submits tariff filing per 35.12: Burley Butte Wind Park Market Based Rate Application to be effective 10/25/2010.

Filed Date: 10/25/2010.

Accession Number: 20101025-5065.

Comment Date: 5 p.m. Eastern Time on Monday, November 15, 2010.

Docket Numbers: ER11-1882-000.

Applicants: Golden Valley Wind Park, LLC.

Description: Golden Valley Wind Park, LLC's Consolidated Application for Expedited Acceptance of Initial Tariffs, Market Based Rate Authority, Certain Waivers & Authorization & Approval of Category 1 Status, effective 10/25/2010.

Filed Date: 10/25/2010.

Accession Number: 20101025-5070.

Comment Date: 5 p.m. Eastern Time on Monday, November 15, 2010.

Docket Numbers: ER11-1883-000.

Applicants: Milner Dam Wind Park, LLC.

Description: Milner Dam Wind Park, LLC submits tariff filing per 35.12: Milner Dam Wind Park Market Based Rate Application to be effective 10/25/2010.

Filed Date: 10/25/2010.

Accession Number: 20101025-5072.

Comment Date: 5 p.m. Eastern Time on Monday, November 15, 2010.

Docket Numbers: ER11-1884-000.

Applicants: Public Service Company of Colorado.

Description: Public Service Company of Colorado submits tariff filing per 35: 2010-10-25_Order739_LiftPriceCap_CompFiling to be effective 10/1/2010.

Filed Date: 10/25/2010.

Accession Number: 20101025-5074.

Comment Date: 5 p.m. Eastern Time on Monday, November 15, 2010.

Docket Numbers: ER11-1885-000.

Applicants: Oregon Trail Wind Park, LLC.

Description: Oregon Trail Wind Park, LLC submits tariff filing per 35.12: Oregon Trail Wind Park Market Based Rate Application to be effective 10/25/2010.

Filed Date: 10/25/2010.

Accession Number: 20101025-5076.

Comment Date: 5 p.m. Eastern Time on Monday, November 15, 2010.

Docket Numbers: ER11-1886-000.

Applicants: Pilgrim Stage Station Wind Park, LLC.

Description: Pilgrim Stage Station Wind Park, LLC submits tariff filing per 35.12: Pilgrim Stage Station Wind Park Market Based Rate Application to be effective 10/25/2010.

Filed Date: 10/25/2010.

Accession Number: 20101025-5081.

Comment Date: 5 p.m. Eastern Time on Monday, November 15, 2010.

Docket Numbers: ER11-1887-000.

Applicants: Thousand Springs Wind Park, LLC.

Description: Thousand Springs Wind Park, LLC submits tariff filing per 35.12: Thousand Springs Wind Park Market Based Rate Application to be effective 10/25/2010.

Filed Date: 10/25/2010.

Accession Number: 20101025-5092.

Comment Date: 5 p.m. Eastern Time on Monday, November 15, 2010.

Docket Numbers: ER11-1888-000.

Applicants: New York Independent System Operator, Inc.

Description: New York Independent System Operator, Inc. submits tariff filing per 35.13(a)(2)(iii): Service Agreement No. 1160 Niagara Mohawk and Sithe Independence Power Partners to be effective 10/26/2010.

Filed Date: 10/25/2010.

Accession Number: 20101025-5099.

Comment Date: 5 p.m. Eastern Time on Monday, November 15, 2010.

Docket Numbers: ER11-1889-000.

Applicants: Tuana Gulch Wind Park, LLC.

Description: Tuana Gulch Wind Park, LLC submits tariff filing per 35.12: Tuana Gulch Wind Park Market Based Rate Application to be effective 10/25/2010.

Filed Date: 10/25/2010.

Accession Number: 20101025-5100.

Comment Date: 5 p.m. Eastern Time on Monday, November 15, 2010.

Docket Numbers: ER11-1890-000.

Applicants: Camp Reed Wind Park, LLC.

Description: Camp Reed Wind Park, LLC submits tariff filing per 35.12: Camp Reed Wind Park Market Based Rate Application to be effective 10/25/2010.

Filed Date: 10/25/2010.

Accession Number: 20101025-5107.

Comment Date: 5 p.m. Eastern Time on Monday, November 15, 2010.

Docket Numbers: ER11-1890-000.

Applicants: Camp Reed Wind Park, LLC.

Description: Camp Reed Wind Park, LLC submits tariff filing per 35.12: Camp Reed Wind Park Market Based Rate Application to be effective 10/25/2010.

Filed Date: 10/25/2010.

Accession Number: 20101025-5107.

Comment Date: 5 p.m. Eastern Time on Monday, November 15, 2010.

Docket Numbers: ER11-1891-000.

Applicants: Safe Harbor Water Power Corporation.

Description: Safe Harbor Water Power Corporation submits tariff filing per 35.12: Baseline Filing MBR to be effective 3/1/2008.

Filed Date: 10/25/2010.

Accession Number: 20101025-5108.

Comment Date: 5 p.m. Eastern Time on Monday, November 15, 2010.

Docket Numbers: ER11-1892-000.

Applicants: Payne's Ferry Wind Park, LLC.

Description: Payne's Ferry Wind Park, LLC submits tariff filing per 35.12: Payne's Ferry Wind Park Market Based Rate Application to be effective 10/25/2010.

Filed Date: 10/25/2010.

Accession Number: 20101025-5115.

Comment Date: 5 p.m. Eastern Time on Monday, November 15, 2010.

Docket Numbers: ER11-1893-000.

Applicants: Salmon Falls Wind Park, LLC.

Description: Salmon Falls Wind Park, LLC submits tariff filing per 35.12: Salmon Falls Wind Park Market Based Rate Application to be effective 10/25/2010.

Filed Date: 10/25/2010.

Accession Number: 20101025-5118.

Comment Date: 5 p.m. Eastern Time on Monday, November 15, 2010.

Docket Numbers: ER11-1894-000.

Applicants: Yahoo Creek Wind Park, LLC.

Description: Yahoo Creek Wind Park, LLC submits tariff filing per 35.12: Yahoo Creek Wind Park Market Based Rate Application to be effective 10/25/2010.

Filed Date: 10/25/2010.

Accession Number: 20101025-5121.

Comment Date: 5 p.m. Eastern Time on Monday, November 15, 2010.

Docket Numbers: ER11-1895-000.

Applicants: ISO New England Inc., New England Power Pool Participants Committee.

Description: ISO New England Inc. submits tariff filing per 35.13(a)(2)(iii): Order 739 to Remove Price Cap Language to be effective 10/1/2010.

Filed Date: 10/25/2010.

Accession Number: 20101025-5139.

Comment Date: 5 p.m. Eastern Time on Monday, November 15, 2010.

Docket Numbers: ER11-1896-000.

Applicants: Southwest Power Pool, Inc.

Description: Southwest Power Pool, Inc. submits revisions to its Open Access Transmission Tariff pursuant to Order No. 739 Compliance Filing, to be effective 9/24/2010.

Filed Date: 10/25/2010.

Accession Number: 20101025-5151.

Comment Date: 5 p.m. Eastern Time on Monday, November 15, 2010.

Docket Numbers: ER11-1897-000.

Applicants: Ameren Illinois Company.

Description: Ameren Illinois Company submits tariff filing per 35.13(a)(2)(iii): Amendment to Services Tariff to be effective 10/1/2010.

Filed Date: 10/25/2010.

Accession Number: 20101025-5187.

Comment Date: 5 p.m. Eastern Time on Monday, November 15, 2010.

Docket Numbers: ER11-1898-000.

Applicants: Illinois Power Company.

Description: Illinois Power Company submits tariff filing per 35.15: Cancellation of Illinois Power Services Tariff to be effective 10/1/2010.

Filed Date: 10/25/2010.

Accession Number: 20101025-5189.

Comment Date: 5 p.m. Eastern Time on Monday, November 15, 2010.

Docket Numbers: ER11-1899-000.

Applicants: Maine Public Service Company.

Description: Maine Public Service Company submits tariff filing per 35: Order No. 739 Compliance to be effective 10/1/2010.

Filed Date: 10/25/2010.

Accession Number: 20101025-5237.

Comment Date: 5 p.m. Eastern Time on Monday, November 15, 2010.

Docket Numbers: ER11-1900-000.

Applicants: PacifiCorp.

Description: PacifiCorp submits tariff filing per 35.13(a)(2)(iii): PacifiCorp Facilities Maintenance Agreement (Dunlap Ranch I) to be effective 10/4/2010.

Filed Date: 10/25/2010.

Accession Number: 20101025-5251.

Comment Date: 5 p.m. Eastern Time on Monday, November 15, 2010.

Docket Numbers: ER11-1901-000.

Applicants: Commercial Energy of Montana.

Description: Commercial Energy of Montana submits tariff filing per 35.15: Commercial Energy of Montana Request for Cancellation to be effective 10/26/2010.

Filed Date: 10/25/2010.

Accession Number: 20101025-5253.

Comment Date: 5 p.m. Eastern Time on Monday, November 15, 2010.

Docket Numbers: ER11-1902-000.

Applicants: KCP&L Greater Missouri Operations Company.

Description: KCP&L Greater Missouri Operations Company submits tariff filing per 35: Attachment L Compliance Filing to be effective 10/25/2010.

Filed Date: 10/25/2010.

Accession Number: 20101025-5279.

Comment Date: 5 p.m. Eastern Time on Monday, November 15, 2010.

Docket Numbers: ER11-1903-000.

Applicants: Central Illinois Light Company.

Description: Central Illinois Light Company submits notice of cancellation of their Power Sales Tariff for Sale of Energy, Capacity and Ancillary Services at Market-Based Rate, Volume No 5, to be effective 10/1/2010.

Filed Date: 10/26/2010.

Accession Number: 20101026-5001.

Comment Date: 5 p.m. Eastern Time on Tuesday, November 16, 2010.

Docket Numbers: ER11-1904-000.

Applicants: Idaho Power Company.

Description: Idaho Power Company submits tariff filing per 35.13(a)(2)(iii): RTSA Populus Amendment to be effective 10/29/2010.

Filed Date: 10/26/2010.

Accession Number: 20101026-5019.

Comment Date: 5 p.m. Eastern Time on Tuesday, November 16, 2010

Docket Numbers: ER11-1905-000.

Applicants: Idaho Power Company.

Description: Idaho Power Company submits tariff filing per 35.13(a)(2)(iii): Hemingway JOOA Amendment to be effective 10/25/2010.

Filed Date: 10/26/2010.

Accession Number: 20101026-5026.

Comment Date: 5 p.m. Eastern Time on Tuesday, November 16, 2010.

Docket Numbers: ER11-1906-000.

Applicants: PJM Interconnection, L.L.C.

Description: PJM Interconnection, L.L.C. submits tariff filing per 35.13(a)(2)(iii): WMPA 2652, Queue No. W1-100, PSE&G and PSE&G to be effective 9/27/2010.

Filed Date: 10/26/2010.

Accession Number: 20101026-5088.

Comment Date: 5 p.m. Eastern Time on Tuesday, November 16, 2010.

Docket Numbers: ER11-1907-000.

Applicants: PJM Interconnection, L.L.C.

Description: PJM Interconnection, L.L.C. submits tariff filing per 35.13(a)(2)(iii): WMPA No. 2650, Queue W1-098, PSE&G and PSE&G to be effective 9/27/2010.

Filed Date: 10/26/2010.

Accession Number: 20101026-5107.

Comment Date: 5 p.m. Eastern Time on Tuesday, November 16, 2010.

Docket Numbers: ER11-1908-000.

Applicants: PJM Interconnection, L.L.C.

Description: PJM Interconnection, L.L.C. submits tariff filing per 35.13(a)(2)(iii): PJM Tariff Section DD-1 to parallel RAA Schedule 6 as filed in Docket ER10-366 to be effective 9/17/2010.

Filed Date: 10/26/2010.

Accession Number: 20101026-5117.

Comment Date: 5 p.m. Eastern Time on Tuesday, November 16, 2010.

Docket Numbers: ER11-1909-000.

Applicants: PJM Interconnection, L.L.C.

Description: PJM Interconnection, L.L.C. submits tariff filing per 35.13(a)(2)(iii): Clarification of Energy Efficiency Resources at End-User Customer's Retail Site to be effective 12/27/2010.

Filed Date: 10/26/2010.

Accession Number: 20101026-5135.

Comment Date: 5 p.m. Eastern Time on Tuesday, November 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-27949 Filed 11-4-10; 8:45 am]

BILLING CODE 6717-01-P